NUCLEAR REGULATORY COMMISSION

10 CFR Parts 50, 52, and 72

[NRC-2023-0107]

Regulatory Guide: Weather-Related Administrative Controls at Independent Spent Fuel Storage Installations

AGENCY: Nuclear Regulatory Commission

ACTION: Final guide; issuance.

SUMMARY: The U.S. Nuclear Regulatory Commission (NRC) is issuing a new Regulatory Guide (RG) 3.77 (Revision 0), “Weather-Related Administrative Controls at Independent Spent Fuel Storage Installations.” This RG provides applicants and licensees with methods that the NRC staff considers acceptable for specific or general independent spent fuel storage installation licensees and certificate of compliance holders to comply with NRC regulations for protection against environmental conditions and natural phenomena.

DATES: Revision 0 to RG 3.77 is available on September 29, 2023.

ADDRESSES: Please refer to Docket ID NRC-2023-0107 when contacting the NRC about the availability of information regarding this document. You may obtain publicly available information related to this document using any of the following methods:

• Federal Rulemaking Website: Go to https://www.regulations.gov and search for Docket ID NRC-2023-0107. Address questions about Docket IDs in Regulations.gov to Stacy Schumann; telephone: 301-415-0624; email: Stacy.Schumann@nrc.gov. For technical questions, contact the individuals listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

Revision 0 to RG 3.77 and the regulatory analysis may be found in ADAMS under Accession Nos. ML23192A535 and ML23089A014, respectively.

Regulatory guides are not copyrighted, and NRC approval is not required to reproduce them.

FOR FURTHER INFORMATION CONTACT: John-Chau Nguyen, Office of Nuclear Material Safety and Safeguards, telephone: 301-415-0262; email: John-Chau.Nguyen@nrc.gov, or Jeremy Tapp, Office of Nuclear Material Safety and Safeguards, telephone: 301-415-8047; email: Jeremy.Tapp@nrc.gov, or Harriet Karagiannis, Office of Nuclear Regulatory Research, telephone: 301-415-2493; email: Harriet.Karagiannis@nrc.gov. All are staff of the U.S. Nuclear Regulatory Commission, Washington, DC 20555-0001.

SUPPLEMENTARY INFORMATION:

I. Discussion

The NRC is issuing a new guide in the NRC's “Regulatory Guide” series. This series was developed to describe methods that are acceptable to the NRC staff for implementing specific parts of the agency's regulations, to explain techniques that the staff uses in evaluating specific issues or postulated events, and to describe information that the staff needs in its review of applications for permits and licenses.

RG 3.77 was issued with a temporary identification of Draft Regulatory Guide, DG-3057.

II. Additional Information

The NRC published a notice of the availability of DG-3057 (ADAMS Accession No. ML23089A012), in the Federal Register on June 5, 2023 (88 FR 36514), for a 30-day public comment period. The public comment period closed on July 5, 2023, and the staff has incorporated public comments submitted on DG-3057. Public comments on DG-3057 and the staff responses to the public comments are available under ADAMS under Accession No. ML23192A534.

This RG is a new RG 3.77, and provides the NRC staff and the industry with guidance that would provide applicants and licensees the option, in certain limited circumstances, to use administrative controls to ensure that the structures, systems, and components important to safety are designed to withstand the effects of weather-related wind and tornado natural phenomena without impairing their capability to perform their intended design functions during outdoor dry storage system handling activities. This RG is endorsing Nuclear Energy Institute 22-02, Revision 2, “Guidelines for Weather-Related Administrative Controls for Short Duration Outdoor Dry Cask Storage Operations,” with clarifications and exceptions.

As noted in the Federal Register on December 9, 2022 (87 FR 75671), this document is being published in the “Rules” section of the Federal Register to comply with publication requirements under 1 CFR chapter I.

III. Congressional Review Act

This RG is a rule as defined in the Congressional Review Act (5 U.S.C. 801-808). However, the Office of Management and Budget has not found it to be a major rule as defined in the Congressional Review Act.

IV. Backfitting, Forward Fitting, and Issue Finality

Issuance of this regulatory guide does not constitute backfitting as defined in section 72.62 of title 10 of the Code of Federal Regulations (10 CFR), “Backfitting,” as defined in 10 CFR 50.109, “Backfitting,” and as described in NRC Management Directive (MD) 8.4, “Management of Backfitting, Forward Fitting, Issue Finality, and Information Requests” (ADAMS Accession No.ML18093B087); or constitute forward fitting as that term is defined and described in MD 8.4; or affect the issue finality of any approval issued under 10 CFR part 52, “Licenses, Certificates, and Approvals for Nuclear Powerplants.” As explained in RG 3.77, applicants and licensees would not be required to comply with the positions set forth in RG 3.77.

V. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: September 25, 2023.
For the Nuclear Regulatory Commission.
Stephen M. Wyman,
Acting Chief,Regulatory Guide and Programs Management Branch,Division of Engineering,Office of Nuclear Regulatory Research.

[FR Doc. 2023-21387 Filed 9-28-23; 8:45 am]

BILLING CODE 7590-01-P